DEPARTMENT OF HOMELAND SECURITY

Federal Emergency Management Agency

44 CFR Part 67

[Docket No. FEMA-P-7659]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood Insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | # Depth in feet above ground ♢ Elevation in Feet ♢ (NAVD): Existing | # Depth in feet above ground ♢ Elevation in Feet ♢ (NAVD): Modified
MO | Knob Noster (City) Johnson County | Clear Fork |  | ♢ 714 | ♢ 726
|  | Hughes Branch |  | ♢ 747 | ♢ 779
|  | Tributary 1 |  | ♢ 774 | ♢ 781
|  | Tributary 2 |  | ♢ 750 | ♢ 778
Maps are available for inspection at City Hall, 218 North State Street, Knob Noster, Missouri.
Send comments to The Honorable Edward Thering, Mayor, City of Knob Noster, 218 North State Street, Knob Noster, Missouri 65336.

State | City/town/county | Source of flooding | Location | # Depth in feet above ground * Elevation in Feet * (NGVD): Existing | # Depth in feet above ground * Elevation in Feet * (NGVD): Modified
OK | Altus (City) Jackson County | Tributary 1 | Approximately 0.40 mile downstream of North 2070 Road/Challenger Boulevard | * 1,337 | * 1,339
|  |  | Approximately 250 feet upstream of East Tammarack Road | * 1,378 | * 1,376
|  | Tributary 2 | Just upstream of Burlington and Santa Fe Railroad Bridge | * 1,345 | * 1,346
|  |  | Approximately 1.7 miles upstream of Veterans Drive | * 1,369 | * 1,370
|  | Tributary 3 | At the confluence with Tributary 1 | * 1,364 | * 1,363
Maps are available for inspection at 300 East Commerce Street, Altus, Oklahoma.
Send comments to The Honorable T.L. Gramling, Mayor, City of Altus, 300 East Commerce Street, Altus, OK 73521.
| Jackson County (Unincorporated Areas) | Tributary 1 | Just downstream of County Highway 164 | None | * 1,334
|  |  | Approximately 1,550 feet upstream of the confluence of Tributary 2 | None | * 1,343
|  | Tributary 2 | At confluence with Tributary 1 | None | * 1,343
|  |  | Just upstream of Burlington Northern and Santa Fe Railway Bridge | None | * 1,346
Maps are available for inspection at 101 North Main Street, Room 101, Altus, Oklahoma.
Send comments to The Honorable Ricky Crouch, Commissioner, District 2, Jackson County, 101 North Main Street, Room 101, Altus, OK 73521.
TX | Corsicana (City) Navarro County | Mesquite Branch | At the confluence with Post Oak Creek (Lower Reach) | * 367 | * 368
|  |  | Approximately 20 feet upstream of South 15th Street | * 415 | * 416
|  | Post Oak Creek (Lower Reach) | Approximately 200 feet downstream of the confluence of Mesquite Branch | * 367 | * 368
|  |  | Approximately 370 feet downstream of the confluence of South Fork Post Oak Creek and divergence of Post Oak Creek (Upper Reach) | * 408 | * 407
|  | Post Oak Creek (Upper Reach) | Approximately 350 feet upstream of the confluence of South Fork Post Oak Creek and divergence of Post Oak Creek (Upper Reach) | * 409 | * 408
|  |  | Approximately 2,960 feet upstream of Bowie Drive | None | * 416
|  | Post Oak Creek Tributary 3 | At the confluence with Post Oak Creek (Lower Reach) | * 399 | * 398
|  |  | Just upstream of Burlington Northern & Santa Fe Railway | None | * 402
|  | Post Oak Creek Tributary 5 | At the confluence with Post Oak Creek (Lower Reach) | * 407 | * 406
|  |  | Just upstream of Forrest Lane | None | * 430
|  | Post Oak Creek Tributary 6 | At the confluence with Post Oak Creek (Upper Reach) | * 412 | * 411
|  |  | Approximately 190 feet upstream of Emhouse Road | None | * 449
|  | South Fork Post Oak Creek | At the confluence with Post Oak Creek (Lower Reach) and Post Oak Creek (Upper Reach) | * 409 | * 408
|  |  | Approximately 1,490 feet upstream of North 29th Street | None | * 438
|  | Town Branch | Approximately 150 feet upstream of the confluence with Mesquite Branch | * 391 | * 390
|  |  | Approximately 620 feet upstream of North 24th Street | None | * 454
Maps are available for inspection at the Engineering Department, City of Corsicana Government Center, 200 North 12th Street, Corsicana, Texas.
Send comments to The Honorable Jay Waterman, Mayor, City of Corsicana, City of Corsicana Government Center, 200 North 12th Street, Corsicana, TX 75110.

(Catalog of Federal Domestic Assistance No. 83.100, “Flood Insurance.”)
Dated: October 26, 2004.
David I. Maurstad,
Acting Director, Mitigation Division, Emergency Preparedness and Response Directorate.

[FR Doc. 04-24332 Filed 10-29-04; 8:45 am]

BILLING CODE 9110-12-P